FEDERAL MARITIME COMMISSION

Security for the Protection of the Public Financial Responsibility To Meet Liability Incurred for Death or Injury To Passengers or Other Persons on Voyages; Notice of Issuance of Certificate (Casualty)

Notice is hereby given that the following have been issued a Certificate of Financial Responsibility to Meet Liability Incurred for Death or Injury to Passengers or Other Persons on Voyages pursuant to the provisions of Section 2, Public Law 89-777 (46 U.S.C. 817(d)) and the Federal Maritime Commission's implementing regulations at 46 CFR Part 540, as amended:

Carnival Corporation,

3655 NW. 87th Avenue,

Miami, FL 33178,

Vessel: CARNIVAL VALOR.

Carnival PLC (trading as Cunard Line Limited),

24303 Town Center Drive,

Valencia, CA 91355,

Vessel: QUEEN MARY 2 and QUEEN ELIZABETH 2.

MSC Crociere S.p.A. Of Naples (d/b/a MSC Cruises),

Lycoper Holdings Inc., Panama and

C.I. Cruises, International S.A. of Geneva, Switzerland,

250 Moonachie Road,

Moonachie, NJ 07074,

Vessel: MSC OPERA.

MSC Crociere S.p.A. of Naples (d/b/a MSC Cruises),

Burnous Investment Corporation, Panama and

Cruises International SA of Geneva, Switzerland,

250 Moonachie Road,

Moonachie, NJ 07074,

Vessel: MSC LIRICA.

Seabourn Cruise Line Limited,

c/o Carnival Corporation,

3655 NW. 87th Avenue,

Miami, FL 33178,

Vessel: SEABOURN LEGEND, SEABOURN PRIDE, and SEABOURN SPIRIT.

Dated: January 14, 2005.
Bryant L. VanBrakle,
Secretary.

[FR Doc. 05-1143 Filed 1-19-05; 8:45 am]

BILLING CODE 6730-01-P